DEPARTMENT OF TRANSPORTATION

Federal Railroad Administration

[Docket No. FRA-2026-0034]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before March 31, 2026.

ADDRESSES: Written comments and recommendations for the proposed ICR should be submitted on https://www.regulations.gov to Docket No. FRA-2026-0034. All comments received will be posted without change to the docket, including any personal information provided. Please refer to the assigned OMB control number (2130-0516) in any correspondence submitted. FRA will summarize comments received in response to this notice in a subsequent notice, made available to the public, and include them in its information collection submission to OMB for approval.

FOR FURTHER INFORMATION CONTACT: Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Remotely Controlled Switch Operations.

OMB Control Number: 2130-0516.

Abstract: 49 CFR 218.30 and 218.77 require that remotely controlled switches be properly lined to protect workers as they inspect or service rolling equipment or occupied camp cars on track. These sections require the operators of the remotely controlled switches to remove the locking device controlling the switches only once they have been informed by the person in charge of the workers that it is safe to do so. In addition, these operators are required to maintain a record of each protection request for 15 days. Operators of remotely controlled switches use the information in this record to document protection of workers or camp cars. This record also serves as a valuable resource for railroad supervisors as well as FRA and State inspectors monitoring regulatory compliance.

In this 60-day notice, FRA made an adjustment under § 218.77, which covers the protection of occupied camp cars. The number of notifications annually has been reduced to reflect the infrequent usage of these types of cars. All other information remains unchanged since the last submission.

Type of Request: Extension without change (with changes in estimates) of a currently approved collection.

Affected Public: Businesses.

Form(s): N/A.

Respondent Universe: 53 railroads.

Frequency of Submission: On occasion.

Reporting Burden
Section | Respondent universe (railroads) | Total annual responses | Average time per response (seconds) | Total annual burden hours | Wage rate ¹ | Total cost equivalent in U.S.D.
|  | (A) | (B) | (C = A * B) |  | (D = C * wage rates)
218.30 Remotely Controlled Switches (Subpart B, Blue Signal Protection of Workers)
—(c) Blue signal protection of workers | 53 | 1,837,775 notifications (53 × 95 responses per day × 365 days per year) | 45 | 22,972 | $72.12 | $1,656,740.64
218.77 Remotely Controlled Switches (Subpart E, Protection of Occupied Camp Cars)
—(c) Protection of occupied camp cars | 6 | 75 notifications | 45 | 1 | 72.12 | 72.12
Total | 53 | 1,837,850 responses |  | 22,973 |  | 1,656,812.76
¹ Surface Transportation Board (STB), Quarterly Wage Form A&B Data (2024). Compiled from Class I railroad data reported on Wage Form A&B for year 2024. Calculated as: Wage ($/hour) = sum of compensation for time worked and paid for straight time rates ($) for Class I railroads ÷ sum of service hours for time worked and paid for straight time rates (hours) for Class I railroads. Available: https://www.stb.gov/reports-data/economic-data/quarterly-wage-ab-data/.

Total Estimated Annual Responses: 1,837,850.

Total Estimated Annual Burden: 22,973 hours.

Total Estimated Annual Burden Hour Dollar Cost Equivalent: $1,656,812.76.

FRA informs all interested parties that it may not conduct or sponsor, and a respondent is not required to respond to, a collection of information that does not display a currently valid OMB control number.

Authority: 44 U.S.C. 3501-3520.

Christopher S. Van Nostrand,
Deputy Chief Counsel.

[FR Doc. 2026-01852 Filed 1-29-26; 8:45 am]

BILLING CODE 4910-06-P